DEPARTMENT OF HEALTH AND HUMAN SERVICES

Administration for Children and Families

Head Start Graduate Student Research Grants

Federal Agency Contact Name: Administration for Children and Families (ACF) & Office of Planning, Research and Evaluation (OPRE).

Funding Opportunity Title: Head Start Graduate Student Research Grants.

Announcement Type: Initial.

Funding Opportunity Number: HHS-2004-ACF-OPRE-YD-0004.

CFDA Number: 93.600.

Due Date for Letter of Intent (Encouraged): 3 weeks prior to June 1, 2004.

Due Date for Applications (Required): The due date for receipt of applications is: June 1, 2004.

I. Funding Opportunity Description

Funds are provided for Graduate Student Research Grants to Support field-initiated research activities.

This grant program is part of a larger Head Start research effort. Three other grant funding mechanisms are being offered concurrently with the one described in this announcement. They include: (1) Head Start Graduate Student Research Partnership Development Grants, (2) Head Start-University Partnerships: Measurement Development for Head Start Children and Families, and (3) American Indian-Alaska Native Head Start-University Partnerships. For more information, please see these other Head Start Research announcements listed in the Federal Register or listed on www.Grants.Gov, or send an inquiry to the email address listed above.

Funding for this grant program is shared with the Head Start Graduate Student Research Partnership Development Grants. Relative funding for the two is contingent upon the results of the review process.

Priority Area: Head Start Graduate Student Research Grants

A. Purpose

The purpose of this announcement is to report the availability of funds for Head Start Graduate Student Research Grants to support field-initiated research activities in partnership with Head Start programs.

B. Statutory Authority

Section 649 of the Head Start Act, as amended by the Coats Human Services Reauthorization Act of 1998 (Pub. L. 105-285) and 42 U.S.C. 9844.

C. Background

Since 1991, ACF has explicitly supported the relationship between established Head Start researchers and their graduate students by awarding research grants, on behalf of specific graduate students, to conduct research in Head Start communities. As many previously funded Head Start graduate students have continued to make significant contributions to the early childhood research field as they have pursued their careers, this funding mechanism is an important research capacity-building effort.

To ensure that future research is responsive to the changing needs of low-income families, graduate students need strong and positive role models. Therefore, Head Start's support of the partnership between students and their mentors is essential. The unique partnership that is forged between mentor and student within the Head Start research context serves as a model for the establishment of other partnerships within the community (e.g., researcher-Head Start staff, researcher-family, etc.). This foundation helps foster the skills necessary to build a graduate student's trajectory of successful partnership-building and contributions to the scientific community. Within this nurturing and supportive relationship, young researchers are empowered to become autonomous researchers, learning theory, as well as the process of interacting with the various members and relevant organizations within their communities.

Thus, the goals of the Head Start Graduate Student Research Grant program can be summarized as follows:

1. Provide direct support for graduate students as a way of encouraging the conduct of research with Head Start populations, thus contributing to the knowledge base about the best approaches for delivering services to diverse, low-income families and their children;

2. Promote mentor-student relationships that support students' graduate training and professional development as young researchers engaged in policy-relevant, applied research;

3. Emphasize the importance of developing true working research partnerships with Head Start programs and other relevant entities within the community, thereby fostering skills necessary to build a student's trajectory of successful partnership-building and contributions to the scientific community; and

4. Support the active communication, networking and collaboration among graduate students, their mentors and other prominent researchers in the field, both during their graduate training, as well as into the early stages of their research careers.

While the specific topics addressed under these Graduate Student Research Grants are intended to be field-initiated, applicants who address issues of both local and national significance will be most likely to succeed. Some illustrative examples of such topics include, but are not limited to, the areas of school readiness, children's mental health, serving an increasingly culturally and linguistically diverse population of children and families, and promoting child well-being by strengthening responsible fatherhood and healthy marriages in Head Start families.

II. Award Information

Funding Instrument Type: Grant.

Anticipated Total Program Funding: $200,000.

Anticipated Number of Awards: ACF anticipates funding 4-10 projects.

Ceiling on Amount of Individual Awards: $20,000 (per year).

The Federal share of project costs shall not exceed $20,000 for the first 12-month budget period inclusive of indirect costs, and shall not exceed $20,000 per year for the second 12-month budget period.

An application that exceeds the upper value of the dollar range specified will be considered “non-responsive” and be returned to the applicant without further review.

Floor of Individual Award Amounts: None specified.

Average Projected Award Amount: None specified.

Project Periods for Awards

Project periods will be up to two years. Initial awards will be for the first one-year budget period. Requests for a second year of funding within the project period should be identified in the current application (on SF-424A), but such requests will be considered in subsequent years on a noncompetitive basis, subject to the applicant's eligibility status, the availability of funds, satisfactory progress of the grantee, and a determination that continued funding would be in the best interest of the Government.

III. Eligibility Information

1. Eligible Applicants Include the Following

• State controlled institutions of higher education

• Private institutions of higher education

• Nonprofits having a 501(c)(3) status with the IRS, other than institutions of higher education

• Other: Faith-based and community organizations that meet all other eligibility requirements

Additional Information on Eligibility

A. Eligible Applicants are institutions of higher education on behalf of doctoral-level graduate students. Doctoral students must have completed their Master's Degree or equivalent in the field of doctoral study and submitted formal notification to ACF by August 1, 2004.

B. To be eligible to administer the grant on behalf of the student, the institution must be fully accredited by one of the regional accrediting commissions recognized by the Department of Education and the Council on Post-Secondary Accreditation. Faith-based and community organizations that meet other eligibility requirements are also eligible to apply.

C. Although the faculty mentor is listed as the Principal Investigator and must be committed to taking a central role in maintaining an ongoing research partnership with a Head Start program, this grant is intended for dissertation research for an individual student. Information about both the graduate student and the student's faculty mentor is required as part of this application.

D. The graduate student applicant must agree to attend two meetings each year of the grant. The budget should reflect travel funds for such purposes. The first meeting consists of the annual meeting for all Head Start Graduate Student grantees. This annual grantee meeting is typically scheduled during the summer or fall of each year and is held in Washington, DC. It is anticipated that the fall 2004 meeting will be held in late October. During this meeting, each student typically presents a brief overview of his or her study (e.g., the study design, participants, measures, challenges and successes during implementation, and/or findings, as they become available). The intended goal of the meeting is to stimulate potentially useful and constructive feedback from other students and mentors, as well as to facilitate collaboration, networking and mentoring activities.

The second meeting each year alternates between the biennial Head Start National Research Conference in Washington, DC (June 28 to July 1, 2004) and the biennial meeting of the Society for Research in Child Development-SRCD (April, 2005). At a minimum, students usually are provided the opportunity to present information on their respective studies in a poster session format, although both meetings also provide other networking and mentoring activities. The grant budget should reflect travel and housing funds for the graduate student for all four of these meetings (or two if only applying for one year of funding).

E. Given the strong emphasis that is placed on supporting the mentor-student relationship, it is crucial that the faculty mentors attend and actively participate in the activities of the annual grantee meeting for all Head Start Graduate Students. The budget should reflect travel funds for such purposes, as appropriate. However, if the faculty mentor does plan to attend the annual Graduate Student grantee meeting, but will utilize another source of travel funds, such arrangements are encouraged and should be clearly noted in the application.

F. A university faculty member must serve as a mentor to the graduate student; this faculty member is listed as the “Principal Investigator.” The application must include a letter from this faculty member stating that s/he has reviewed and approved the application, affirming the status of the project as dissertation research and the student's status in the doctoral program, and describing how the faculty member will regularly monitor the student's work.

G. The Principal Investigator must have a doctorate or equivalent degree in the respective field, conduct research as a primary professional responsibility, and have published or have been accepted for publication in the major peer-reviewed research journals in the field as a first author or second author.

H. An important element of this announcement is the requirement that researchers demonstrate a partnership or partnerships with Head Start or Early Head Start programs as part of the development, piloting, refinement, training, and use of measures. The application must contain a letter from the Head Start or Early Head Start program certifying that they have entered into a partnership with the applicant and the application has been reviewed and approved by the Head Start or Early Head Start Policy Council (see Section IV. Application and Submission Information for further details about these letters).

I. The research project must be an independent study conducted by the individual graduate student or well-defined portion(s) of a larger study currently being conducted by a faculty member. If the project is part of a larger research effort, the proposal must clearly distinguish between the student's portion of the research activities and those of the larger project. The graduate student must have primary responsibility for the proposed study described in the application.

J. If the graduate student, on whose behalf the university is applying, expects to receive his/her degree by the end of the first one-year budget period, the applicant should request a one-year project period only. A second year budget-period will not be granted if the student has graduated by the end of the first year.

K. The graduate student must write the application in its entirety, consistent with the format and style guidelines of the Publication Manual of the American Psychological Association, 5th ed. (APA 2001) and the general principles and guidelines of the Ethical Principles of Psychologists and Code of Conduct 2002 (APA, 2002).

L. Any nonprofit organization submitting an application must submit proof of its nonprofit status at the time of submission. Any of the following constitutes proof of nonprofit status:

• A copy of the applicant organization's listing in the Internal Revenue Service's (IRS) most recent list of tax-exempt organizations described in section 501(c)(3) of the IRS Code.

• A copy of a currently valid IRS tax exemption certificate.

• A written statement from a State taxing body, State attorney general, or other appropriate State official certifying that the applicant organization has a nonprofit status and that none of the net earnings accrue to any private shareholders or individuals.

• A certified copy of the organization's certificate of incorporation or similar document that clearly establishes nonprofit status.

• Any of the items above for a State or national parent organization and a statement signed by the parent organization that the applicant organization is a local nonprofit affiliate.

M. Private, nonprofit organizations are encouraged to submit with their applications the survey located under “Grant Related Documents and Forms” titled “Survey for Private, Nonprofit Grant Applicants” at www.acf.hhs.gov/programs/ofs/forms.htm.

2. Cost Sharing or Matching

There is no matching requirement.

3. Other

All applicants must have Dun & Bradstreet numbers. On June 27, 2003 the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement, and block grant programs, submitted on or after October 1, 2003.

Please ensure that your organization has a DUNS number. You may acquire a DUNS number at no cost by calling the dedicated toll-free DUNS number request line on 1-866-705-5711 or you may request a number on-line at http://www.dnb.com.

Applications that fail to follow the required format described in Section IV.2. Content and Form of Application Submission will be considered non-responsive and will not be eligible for funding under this announcement.

Applications that exceed the $20,000 ceiling will be considered non-responsive and will not be eligible for funding under this announcement.

It is unlikely that any individual mentor will be funded for more than one graduate student research grant if there are at least 10 applications from different mentors/institutions that qualify for support.

IV. Application and Submission Information

1. Address To Request Application Package

The Head Start Research Support Technical Assistance Team, 1 (877) 663-0250, is available to answer questions regarding application requirements and to refer you to the appropriate contact person in ACF for programmatic questions. You may also e-mail your questions to: opre@xtria.com. Refer to the Funding Opportunity Number: HHS-2004-ACF-OPRE-[Insert # here]. ACYF Operations Center/OPRE Grant Review Team/Xtria, LLC, c/o The Dixon Group, Inc., 118 Q Street, NE., Washington, DC 20002-2132, Attention: Head Start Graduate Student Research Grants, 1 (877) 663-0250, E-mail opre@xtria.com.

URL To Obtain an Application

Copies of this Program Announcement may be downloaded approximately 5 days after publication in the Federal Register at http://www.acf.dhhs.gov/programs/core/ongoing_research/funding/funding.html.

Application materials described in Section IV. can be downloaded from the following Web site: http://www.acf.hhs.gov/programs/ofs/forms.htm#apps.

2. Content and Form of Application Submission

An original and two copies of the complete application are required. The original copy must include all required forms, certifications, assurances, and appendices, be signed by an authorized representative, have original signatures, and be submitted unbound. The two additional copies of the complete application must include all required forms, certifications, assurances, and appendices and must also be submitted unbound. Applicants have the option of omitting from the application copies (not the original) specific salary rates or amounts for individuals specified in the application budget and Social Security Numbers, if otherwise required for individuals. The copies may include summary salary information.

Format and Organization. Applicants are strongly encouraged to limit their application to 100 pages, double-spaced, with standard one-inch margins and 12 point fonts. This page limit applies to both narrative text and supporting materials but not the Standard Federal Forms (see list below). Applicants must number the pages of their application beginning with the Table of Contents.

Applicants are advised to include all required forms and materials and to organize these materials according to the format, and in the order, presented below:

a. Cover Letter

b. Contact information sheet (see details below)

c. Standard Federal Forms

Standard Application for Federal Assistance (form 424)

Budget Information—Non-construction Programs (424A)

Certifications Regarding Lobbying

Disclosures of Lobbying Activities (if necessary)

Certification Regarding Environmental Tobacco Smoke

Assurance Regarding Non-construction Programs (form 424B)

Assurance Regarding Protection of Human Subjects

d. Table of Contents

e. Project Narrative Statement (see details below)

f. Appendix

Proof of Nonprofit Status (see Section V.1.F)

Curriculum Vitae for Student and Faculty Advisor

Letter of Support from Advisor

Letter(s) of agreement with Head Start program(s) (see details below)

Letter(s) of agreement with Head Start Policy Council(s) (see details below)

Official Transcript of Student Reflecting Graduate Courses

You may submit your application to us in either electronic or paper format.

To submit an application electronically, please use the www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF-424 and all necessary assurances and certifications.

• Your application must comply with any page limitation requirements described in this program announcement.

• After you electronically submit your application, you will receive an automatic acknowledgement from Grants.gov that contains a Grants.gov tracking number. ACF will retrieve your application from Grants.gov.

• We may request that you provide original signatures on forms at a later date.

• You may access the electronic application for this program on www.Grants.gov.

• You must search for the downloadable application package by the CFDA number.

Private non-profit organizations may voluntarily submit with their applications the survey located under “Grant Related Documents and Forms” titled “Survey for Private, Nonprofit Grant Applicants” at www.acf.hhs.gov/programs/ofs/forms.htm.

Content of Contact Information Sheet: The contact information sheet should include complete contact information, including addresses, phone and fax numbers, and e-mail addresses, for the graduate student applicant, the Principal Investigator(s), and the institution's grants/financial officer (person who signs the SF-424).

Content of Project Narrative Statement: The project narrative should be carefully developed in accordance with ACF's research goals and agenda as described in the Purpose, Background, and Priorities sections of this funding opportunity, and the structure requirements listed in Section V. Application Review Information. Please see Section V.1. Criteria for instructions on preparing the project summary/abstract and the full project description.

Content of Letters of Agreement: For research conducted with Head Start, the application must contain (A) an original copy of a letter from the Head Start or Early Head Start program certifying that they have entered into a research partnership with the applicant (graduate student) and (B) a separate letter certifying that the application has been reviewed and approved by the local Head Start Program Policy Council. This certification of approval or pending approval by the Policy Council must be an original letter from the official representative of the Policy Council itself.

3. Submission Dates and Times

The closing time and date for receipt of applications is 4:30 p.m. (eastern time zone) on June 1, 2004. Mailed or handcarried applications received after 4:30 p.m. on the closing date will be classified as late.

Deadline: Mailed applications shall be considered as meeting an announced deadline if they are received on or before the deadline time and date at the following address: ACYF Operations Center/OPRE Grant Review Team/Xtria, LLC, c/o The Dixon Group, Inc., 118 Q Street, NE., Washington, DC 20002-2132, Attention: Head Start Graduate Student Research Grants, 1 (877) 663-0250, E-mail opre@xtria.com.

Applicants are responsible for mailing applications well in advance, when using all mail services, to ensure that the applications are received on or before the deadline time and date.

Applications hand-carried by applicants, applicant couriers, other representatives of the applicant, or by overnight/express mail couriers shall be considered as meeting an announced deadline if they are received on or before the deadline date, between the hours of 9 a.m. and 4:30 p.m. (e.s.t.), Monday through Friday (excluding Federal holidays) at the above address. Applicants are cautioned that express/overnight mail services do not always deliver as agreed. ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, when there are widespread disruptions of mails service, or in other rare cases. Determinations to extend or waive deadline requirements rest with the ACF Chief Grants Management Officer.

Due date for Letters of Intent (Encouraged): 3 weeks prior to June 1, 2004. If you plan to submit an application, ACF requests you notify us by fax or e-mail at least three weeks prior to the submission deadline date. This information will be used only to determine the number of expert reviewers needed to review the applications. Include only the following information in this fax or email: the number and title of this announcement; the name, address, telephone and fax number, e-mail address of the Principal Investigator(s), the fiscal agent (if known); and the name of the university or nonprofit institution. Do not include a description of your proposed project. Send this information to “The Head Start Research Support Team” at—Fax: 1 (703) 821-3989 or E-mail: opre@xtria.com.

The table below provides additional detail about the standard Federal forms that need to be submitted, including what information is required on them, where these forms can be found, and when they must be submitted.

What to submit | Required content | Required form or format | When to submit
Standard Application for Federal Assistance (form SF 424) | Must be filled out completely, signed, and enclosed with application | May be found at http://acf.hhs.gov/programs/ofs/forms.htm | By application due date.
Budget Information—Nonconstruction Programs (form SF 424A) | Must be filled out completely and enclosed with application | May be found at http://acf.hhs.gov/programs/ofs/forms.htm | By application due date.
Certification Regarding Lobbying | Most be signed and enclosed with application | May be found at http://acf.hhs.gov/programs/ofs/forms.htm | By application due date.
Disclosure of Lobbying Activities (SF LLL) | If necessary (see Certification Regarding Lobbying), must be filled out completely, signed, and enclosed with application | May be found at http://acf.hhs.gov/programs/ofs/forms.htm | By application due date.
Certification Regarding Environmental Tobacco Smoke | Copy must be enclosed with application (signing and submitting the proposal certifies its content) | May be found at http://acf.hhs.gov/programs/ofs/forms.htm | By application due date.
Assurance Regarding Non-construction Programs (form SF 424B) | Must be signed and enclosed with application | May be found at http://acf.hhs.gov/programs/ofs/forms.htm | By application due date.
Assurance Regarding Protection of Human Subjects | Must be filled out completely, signed, and enclosed with application | May be found at http://acf.hhs.gov/programs/ofs/forms.htm | By application due date.

Additional Forms

Private non-profit organizations may voluntarily submit with their applications the survey located under “Grant Related Documents and Forms” titled “Survey for Private, Nonprofit Grant Applicants” at www.acf.hhs.gov/programs/ofs/forms.htm.

What to submit | Required content | Required form or format | When to submit
Survey for Private, Non-Profit Grant Applicants | Per required form | May be found at http://acf.hhs.gov/programs/ofs/forms.htm | By application due date.

4. Intergovernmental Review

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

All States and Territories except Alabama, Alaska, Arizona, Colorado, Connecticut, Hawaii, Idaho, Indiana, Kansas, Louisiana, Massachusetts, Minnesota, Montana, Nebraska, New Jersey, Ohio, Oklahoma, Oregon, Pennsylvania, South Dakota, Tennessee, Vermont, Virginia, Washington, Wyoming, and Palau have elected to participate in the Executive Order process and have established Single Points of Contact (SPOCs). Applicants from these twenty-six jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodation or explain” rule.

When comments are submitted directly to ACF, they should be addressed to: Department of Health and Human Services, Administration for Children and Families, Division of Discretionary Grants, 370 L'Enfant Promenade, Washington, DC 20447. A current list of the Single Points of Contact (SPOCs) for each State and Territory is posted at the following Web site: http://www.whitehouse.gov/omb/grants/spoc.html.

5. Funding Restrictions

A. Pre-award costs are not allowable.

B. Due to the small amount of the grant, the applicant and the applicant's institution are strongly encouraged to waive indirect costs. An authorized representative of the applicant's institution must submit a written acknowledgement that the indirect costs are being waived. In the event that waiving the indirect costs is not possible, the applicant is strongly encouraged to apply the University's or nonprofit institution's off-campus research rates for indirect costs.

C. Transferability. Grants awarded as a result of this competition are not transferable to another student or to another institution.

D. Sharing of Awards. Awards cannot be divided among two or more students.

6. Other Submission Requirements

Electronic Address to Submit Applications: www.Grants.Gov.

Electronic Submission: Please see Section IV.2. Content and Form of Application Submission for guidelines and requirements when submitting applications electronically.

Submission by Mail: Mailed applications shall be considered as meeting an announced deadline if they are received on or before the deadline time and date at the following address: ACYF Operations Center/OPRE Grant Review Team/Xtria, LLC, c/o The Dixon Group, Inc., 118 Q Street, NE., Washington, DC 20002-2132, Attention: Head Start Graduate Student Research Grants, 1 (877) 663-0250, E-mail opre@xtria.com.

Applicants are responsible for mailing applications well in advance, when using all mail services, to ensure that the applications are received on or before the deadline time and date.

Hand Delivery: Applications hand-carried by applicants, applicant couriers, other representatives of the applicant, or by overnight/express mail couriers shall be considered as meeting an announced deadline if they are received on or before the deadline date, between the hours of 9 a.m. and 4:30 p.m. (e.s.t.), Monday through Friday (excluding Federal holidays) at the above address. Applicants are cautioned that express/overnight mail services do not always deliver as agreed. ACF cannot accommodate transmission of applications by fax.

Due Date for Letters of Intent (Encouraged): 3 weeks prior to June 1, 2004. If you plan to submit an application, ACF requests you notify us by fax or e-mail at least three weeks prior to the submission deadline date. This information will be used only to determine the number of expert reviewers needed to review the applications. Include only the following information in this fax or email: the number and title of this announcement; the name, address, telephone and fax number, e-mail address of the Principal Investigator(s), the fiscal agent (if known); and the name of the university or nonprofit institution. Do not include a description of your proposed project. Send this information to “The Head Start Research Support Team” at—Fax: 1 (703) 821-3989 or E-mail: opre@xtria.com.

V. Application Review Information

1. Criteria

The Paperwork Reduction Act of 1995 (Pub. L. 104-13): Public reporting burden for this collection of information is estimated to average 25 hours per response, including the time for reviewing instructions, gathering and maintaining the data needed and reviewing the collection information. The project description is approved under OMB Control Number 0970-0139 which expires 3/31/2004. An agency may not conduct or sponsor, and a person is not required to respond to, a collection of information unless it displays a currently valid OMB control number.

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross-referencing should be used rather than repetition. Supporting information concerning activities that will not be directly funded by the grant or information that does not directly pertain to an integral part of the grant-funded activity should be placed in an appendix.

Pages should be numbered and a table of contents should be included for easy reference.

Applicants required to submit a full project description shall prepare the project description statement in accordance with the following instructions and the specified evaluation criteria. The instructions give a broad overview of what your project description should include while the evaluation criteria expands and clarifies more program-specific information that is needed.

A. Project Summary/Abstract: Provide a summary of the project description (one page or less) with reference to the funding request.

B. Objectives and Need for Assistance: Clearly identify the physical, economic, social, financial, institutional, and/or other problem(s) requiring a solution. The need for assistance must be demonstrated and the principal and subordinate objectives of the project must be clearly stated; supporting documentation, such as letters of support from concerned parties other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

C. Results and Benefits Expected: Identify the results and benefits to be derived. For example, explain how your proposed project will achieve the specific goals and objectives you have set; specify the number of children and families to be served, and how the services to be provided will be funded consistent with the local needs assessment. Or, explain how the expected results will benefit the population to be served in meeting its needs for early learning services and activities. What benefits will families derive from these services? How will the services help them? What lessons will be learned which might help other agencies and organizations that are addressing the needs of a similar client population?

D. Approach: Outline a plan of action, which describes the scope and detail of how the proposed work will be accomplished. Account for all functions or activities identified in the application. Cite factors, which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearances may be required from the U.S. Office of Management and Budget (OMB). This clearance pertains to any “collection of information that is conducted or sponsored by ACF.”

List organizations, cooperating entities, consultants, or other key individuals who will work on the project along with a short description of the nature of their effort or contribution.

E. Evaluation: Provide a narrative addressing how the results of the project and the conduct of the project will be evaluated. In addressing the evaluation of results, state how you will determine the extent to which the project has achieved its stated objectives, and the extent to which the accomplishment of objectives can be attributed to the project. Discuss the criteria to be used to evaluate results, and explain the methodology that will be used to determine if the needs identified and discussed are being met, and if the project results and benefits are being achieved. With respect to the conduct of the project, define the procedures to be employed to determine whether the project is being conducted in a manner consistent with the work plan presented and discuss the impact of the project's various activities on the project's effectiveness.

F. Additional Information: Following are requests for additional information that need to be included in the application:

1. Staff and Position Data: Provide a biographical sketch for each key person appointed and a job description for each vacant key position. A biographical sketch will also be required for new key staff as appointed.

2. Organizational Profiles: Provide information on the applicant organizations(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any nonprofit organization submitting an application must submit proof of its nonprofit status in its application at the time of submission.

The nonprofit agency can accomplish this by providing a copy of the applicant's listing in the Internal Revenue Service's (IRS) most recent list of tax-exempt organizations described in section 501(c)(3) of the IRS code, or by providing a copy of the currently valid IRS tax exemption certificate; or by providing a copy of the articles of incorporation bearing the seal of the State in which the corporation or association is domiciled.

3. Letters of Support: Provide statements from the community, public and commercial leaders that support the project proposed for funding. All documents must be included in the application at the time of submission.

G. Budget and Budget Justification: Provide line item detail and detailed calculations for each budget object class identified in the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following are guidelines for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or Principal Investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops must be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information, which supports the amount requested.

Contractual

Description: Costs of all contracts for services and goods except for those that belong under other categories such as equipment, supplies, construction, etc. Third party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Description: Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description, and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Non-Federal Resources

Description: Amounts of non-Federal resources that will be used to support the project as identified in Block 15 of the SF-424.

Justification: The firm commitment of these resources must be documented and submitted with the application in order to be given credit in the review process. A detailed budget must be prepared for each funding source.

Evaluation Criteria

Competitive Criteria for Reviewers: Head Start Graduate Student Research Grants—The three criteria areas that follow will be used to review and evaluate each application. Address each in the Project Narrative Section of the application. The point values indicate the maximum numerical weight each criterion will be accorded in the review process. (100 points total).

Approach: 40 points

• The extent to which there is a discrete project designed by the graduate student. If the proposed project is part of a larger study designed by others, the approach section should clearly delineate the research component to be carried out by the student and how it is distinguished from the larger research project.

• The extent to which the research design is clearly described, as well as appropriate and sufficient for addressing the questions of the study.

• The extent to which the planned research specifies the measures to be used, their psychometric properties, and contains an adequately detailed description of the proposed analyses to be conducted.

• The extent to which the planned measures have been shown to be appropriate and sufficient for the questions of the study, and the population to be studied.

• The extent to which the planned measures and analyses are consistent with one another, and reflect knowledge and use of state-of-the-art measures and analytic techniques, or advance the state-of-the art, as appropriate.

• The extent to which the data analytic plan is adequately described and that the proposed data analytic techniques are appropriate for the specific research question(s) under consideration.

• The extent to which the proposed sample size is sufficient to answer the range of proposed research questions for the study, especially for longitudinal studies and studies involving a priori subgroups of interest.

• The extent to which the scope of the project is reasonable for the funds available and feasible for the time frame specified.

• The extent to which the planned approach reflects sufficient written input from, and partnership with, the Head Start program (including the separate required review and written approval from the Head Start program and the Head Start Program Policy Council).

• The extent to which the budget and budget justification are appropriate for carrying out the proposed project.

Staff and Position Data: 35 Points

• The extent to which the faculty mentor and graduate student possess the research expertise necessary to conduct the study as demonstrated in the application and information contained in their vitae.

• The Principal Investigator/faculty mentor has earned a doctorate or equivalent in the relevant field and has first or second author publications in major research journals.

• The extent to which the faculty mentor and graduate student reflect an understanding of and sensitivity to the issues of working in a community setting and in partnership with Head Start program staff and parents.

• The adequacy of the time devoted to this project by the faculty mentor for mentoring the graduate student. The proposal should include evidence of the faculty mentor's commitment to mentoring the individual graduate student, and as appropriate, willingness to serve as a resource to the broader group of Head Start Graduate Students funded under this award.

Results or Benefits Expected: 25 Points

• The research questions are clearly stated.

• The presentation reflects original work done by the student (consistent with the general principles and guidelines of the Ethical Principles of Psychologists and Code of Conduct 2002 (APA 2002).

• The extent to which the questions are of importance and relevance for low-income children's development and welfare.

• The extent to which the research study makes a significant contribution to the knowledge base.

• The extent to which the literature review is current, comprehensive, and supports the need for the study.

• The extent to which the literature review has a complete set of reference citations and is written consistent with the guidelines of the Publication Manual of the American Psychological Association, 5th ed. (APA 2001).

• The extent to which the questions that will be addressed or the hypotheses that will be tested are adequately described and sufficient for meeting the stated objectives.

• The extent to which the proposed project is appropriate to the student's level of ability and the stated time frame for completing the project.

2. Review and Selection Process

Each application will undergo an eligibility and conformance review by Federal staff. Applications that pass the eligibility and conformance review will be evaluated on a competitive basis according to the specified evaluation criteria.

The competitive review will be conducted in the Washington, DC, metropolitan area by panels of Federal and non-Federal experts knowledgeable in the areas of early childhood education and intervention research, early learning, child care, and other relevant program areas.

Application review panels will assign a score to each application and identify its strengths and weaknesses.

OPRE will conduct an administrative review of the applications and results of the competitive review panels and make recommendations for funding to the Director of OPRE.

The Director of OPRE, in consultation with the Commissioner of the Administration on Children, Youth, and Families (ACYF), will make the final selection of the applications to be funded. Applications may be funded in whole or in part depending on: (1) The ranked order of applicants resulting from the competitive review; (2) staff review and consultations; (3) the combination of projects that best meets the Bureau's objectives; (4) the funds available; and (5) other relevant considerations. The Director may also elect not to fund any applicants with known management, fiscal, reporting, program, or other problems, which make it unlikely that they would be able to provide effective services.

VI. Award Administration Information

1. Award Notices

Successful applicants will be notified through the issuance of a Financial Assistance Award notice that sets forth the amount of funds granted, the terms and conditions of the grant award, the effective date of the award, the budget period for which initial support is given, and the total project period for which support is provided. The Financial Assistance Award will be signed by the Grants Officer and transmitted via postal mail. Organizations whose applications will not be funded will be notified in writing by ACF.

2. Administrative and National Policy Requirements

All applicants are responsible for conforming to the United States Executive Branch Code of Federal Regulations (http://www.gpoaccess.gov/cfr/index.html). The following regulations have been identified as having particular relevance for ACF grants: 45 CFR parts 74 and 92.

3. Reporting Requirements

Programmatic Reports: Semi-annually and a final report is due 90 days after the end of the grant period.

Financial Reports: (SF-269 long form) Semi-annually and a final report is due 90 days after the end of the grant period.

Original reports and one copy should be mailed to: Administration for Children and Families, Office of Grants Management, Division of Discretionary Grants, 370 L'Enfant Promenade, SW., Washington, DC 20447.

VII. Agency Contacts

1. Program Office Contact

ACYF Operations Center/OPRE Grant Review Team/Xtria, LLC, c/o The Dixon Group, Inc., 118 Q Street, NE., Washington, DC 20002-2132, Attention: Head Start Graduate Student Research Grants, 1 (877) 663-0250, E-mail opre@xtria.com.

2. Grants Management Office Contact

Sylvia Johnson, ACF Division of Discretionary Grants, 370 L'Enfant Promenade, Washington, DC 20447, 1 (202) 260-7622, E-mail: sjohnson@acf.hhs.gov.

VIII. Other Information

Applicants under this announcement are advised that subsequent sale and distribution of products developed under this grant will be subject to the Code of Federal Regulations, title 45, part 74.

The use of secondary data analysis in order to refine and validate newly-developed measures in relation to already standardized measures is strongly advised.

Definitions

Budget Period—for the purposes of this announcement, budget period means the 12-month period of time for which ACF funds are made available to a particular grantee (e.g., beginning on September 16, 2004, and ending on September 15, 2005).

Project Period—for the purposes of this announcement, project period means the 24-month period starting by September 2004, and ending by September, 2006.

Dated: March 26, 2004.
Naomi Goldstein,
Acting Director, Office of Planning, Research, and Evaluation.

[FR Doc. 04-7261 Filed 3-31-04; 8:45 am]

BILLING CODE 4184-01-P